DEPARTMENT OF TRANSPORTATION

Pipeline and Hazardous Materials Safety Administration

Hazardous Materials: Actions on Special Permit Applications

AGENCY: Office of Hazardous Materials Safety, Pipeline and Hazardous Materials Safety Administration (PHMSA), DOT.

ACTION: Notice of actions on special permit applications.

SUMMARY: In accordance with the procedures governing the application for, and the processing of, special permits from the Department of Transportation's Hazardous Material Regulations (49 CFR part 107, subpart B), notice is hereby given of the actions on special permits applications in (October to October 2014). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on March 3, 2015.
Donald Burger,
Chief, Special Permits and Approvals Branch.

Modification Special Permit Granted
S.P No. | Applicant | Regulation(s) | Nature of special permit thereof
12116-M | Proserv UK LTd., East Tullos | 49 CFR 173.201, 173.302a, 173.304a, and 173.301(f) | To modify the special permit to authorize a carboxysilicon coating to be applied to certain cylinders.
10232-M | ITW Sexton, Decatur, AL | 49 CFR 173.304(d) and 173.306(a)(3) | To modify the special permit to authorize additional hazardous materials.
14152-M | SAES Pure Gas, Inc., San Luis Obispo, CA | 49 CFR 173.187 | To modify the special permit to authorize additional outer packaging and shielding gases.
12748-M | Lockheed Martin Space Systems Company, Santa Cruz, CA | 49 CFR 178.601(a) | To modify the special permit to authorize additional hazardous materials.
16279-M | Veolia ES Technical Solutions, L.L.C., Flanders, NJ | 49 CFR 173.196(a) and (b) | To modify the special permit originally issued on an emergency basis to authorize an additional two years.
15716-M | Department of Energy, Washington, DC | 49 CFR 173.310 | To modify the special permit to authorize an additional material.
NEW SPECIAL PERMIT GRANTED
16217-N | Fuji Electric Co., Ltd., Shinagawa-ku, To | 49 CFR 173.310 | To authorize the manufacture, mark, sale and use of a neutron radiation detector containing a Division 2.1 flammable gas, (modes 1, 2, 4).
16251-N | Air Liquide America Specialty Gases, LLC, Plumsteadville, PA | 49 CFR 173.302a(a)(1), 173.302a(a)(3) | To authorize the transportation in commerce of certain non-liquefied flammable gases in non-DOT specification cylinders and certain non-liquefied flammable gases in cylinders authorized under DOT-SP 10788 with a volume not to exceed 1.6 L. (modes 1,2,3,4,5).
15991-N | Dockweller AG, Neustadt-Glewe, Germany | 49 CFR 178.50(d)(1) and (d)(2) | To authorize the manufacture, marking, sale and use of non-DOT specification cylinders similar to DOT 4BW for the transportation in commerce of certain hazardous materials. (modes 1,2,3,4,5).
16316-N | Green Auto Products International, Inc., Orlando, FL | 49 CFR 171.2(k), 172.202(a)(5)(iii)(b), part 172, subpart H | To authorize the transportation in commerce of certain used DOT 3AL cylinders that contain oxygen, but not necessarily in an amount qualifying as hazardous material. (modes 1,2,3).
EMERGENCY SPECIAL PERMIT GRANTED
10832-M | Autoliv ASP, Inc., Ogden, UT | 49 CFR 173.56(b), and 173.61(a) | To modify the special permit to update locations where the permit may be used. (mode 1).
16231-N | Thales Alenia Space, Cannes la Bocca | 49 CFR 172.101 Column 9(B), 173.301(f), 173.302a(a)(1), and 173.304a(a)(2) | To authorize the transportation in commerce of certain non-DOT specification containers containing certain Division 2.1, 2.2, and 2.3 liquefied and compressed gases and other certain hazardous materials. (modes 1,2,3,4).
NEW SPECIAL PERMIT WITHDRAWN
16404-N | Intermountain Slurry Seal, North Salt Lake, UT | 49 CFR 177.834(h) | Exemption from 177.834(h) for a Class 9 material mixed with a sealant to be applied during the resurfacing and repair of a closed portion of a highway as part of seasonal maintenance. (mode 1).
EMERGENCY SPECIAL PERMIT WITHDRAWN
16189-N | Coffeyville Resources Nitrogen Fertilizers, LLC, Kansas City, KS | 49 CFR 173.31(a)(3) and 180.509(c)(3) | To authorize the transportation in commerce of fifty (50) DOT 111 tank cars, containing non-hazardous material, that are due for inspection and testing for 6 months after the date required. (mode 2).
DENIED
14778-M | Request by Sea-Fire Marine Inc., Baltimore, MD, February 13, 2015. To modify the special permit to authorize cylinders being used on a foreign vessel to be transported for service while the vessel is in USA waters.
16405-N | Request by Coal City Cob Company Waxahachie, TX, February 12, 2015. Renewal of expired DOT SP 13192.
16317-N | Request by ICC Compliance Center, Niagara Falls, NY, February 25, 2015. To authorize the manufacture, mark, sale and use of alternative packaging for the transportation in commerce of Category A infectious waste.
15885-M | PHI, Inc., Lafayette, LA | 49 CFR 172.101 Table Column (9A) | To modify the special permit to authorize additional hazardous materials.

[FR Doc. 2015-06463 Filed 3-23-15; 8:45 am]

BILLING CODE 4909-60-M